DEPARTMENT OF THE INTERIOR

Bureau of Land Management

[A2407-014-004-065516; #O2412-014-004-047181.1]

Notice of Intent To Prepare an Environmental Impact Statement for the Proposed South Railroad Mine Project, Elko County, Nevada

AGENCY: Bureau of Land Management, Interior.

ACTION: Notice of intent.

SUMMARY: In compliance with the National Environmental Policy Act of 1969, as amended (NEPA), and the Federal Land Policy and Management Act of 1976, as amended, the Bureau of Land Management (BLM) Elko District, Tuscarora Field Office, Elko, Nevada, intends to prepare an environmental impact statement (EIS) to consider the effects of authorizing Gold Standard Ventures (US) Inc.'s South Railroad Mine Project in Elko County, Nevada. This notice announces the beginning of the scoping process to solicit public comments and identify issues.

DATES: The BLM requests that the public submit comments concerning the scope of the analysis, potential alternatives, and identification of relevant information, and studies by September 12, 2025. Public meetings will be held September 3, 2025, from 2:00 to 4:00 p.m. PST and again on the same date from 6:00 to 8:00 p.m. PST at the California Trail Center, 1 Interpretive Center Way, Elko, NV 89801. To afford the BLM the opportunity to consider comments in the EIS, please ensure your comments are received prior to the close of the 30-day scoping period or 15 days after the last public meeting, whichever is later.

ADDRESSES: You may submit comments related to the South Railroad Mine Project by any of the following methods:

• Website: https://eplanning.blm.gov/eplanning-ui/project/2038636/510.

• Email: BLM_NV_ELDO_SOUTHRAILROADMINE_EIS@blm.gov.

• Mail: BLM Tuscarora Field Office, Attn: South Railroad EIS, 3900 East Idaho Street, Elko, NV 89801.

Documents pertinent to this proposal may be examined online at https://eplanning.blm.gov/eplanning-ui/project/2038636/510 and at the Tuscarora Field Office at the above address or during the in-person public meetings at the California Trail Center, 1 Interpretive Way, Elko, NV 89801.

FOR FURTHER INFORMATION CONTACT: Evan Allen, Planning and Environmental Coordinator, telephone: (775) 861-6593; address: 1340 Financial Boulevard, Reno, Nevada 89502; email: esallen@blm.gov. Contact Mr. Allen to have your name added to our mailing list. Individuals in the United States who are deaf, deafblind, hard of hearing, or have a speech disability may dial 711 (TTY, TDD, or TeleBraille) to access telecommunications relay services for contacting Mr. Allen. Individuals outside the United States should use the relay services offered within their country to make international calls to the point-of-contact in the United States.

SUPPLEMENTARY INFORMATION: The BLM will consider authorizing Gold Standard Ventures (US) Inc.'s Plan of Operations for the South Railroad Mine Project located in the Piñon Range, approximately 25 miles southwest of Elko, Nevada, in Elko County. The Proposed Action would include construction, operation, reclamation, and closure of a new gold and silver mine and its associated facilities.

The Plan of Operations boundary would include approximately 8,548 acres, of which, approximately 4,624 acres are on BLM-administered lands and approximately 3,924 acres are on private lands. The total life of the Proposed Action is estimated to be 16.5 years.

Purpose and Need for the Proposed Action

The BLM's purpose for the action is to respond to Gold Standard Ventures (US) Inc.'s proposal as described in their Plan of Operations for the South Railroad Mine Project and to analyze the potential environmental effects associated with the Proposed Action and alternatives to the Proposed Action, consider reasonable alternatives, and develop and consider mitigation when necessary to mitigate environmental effects. The BLM's need for the action is established by its responsibilities under section 302 of the Federal Land Policy Management Act and the BLM Surface Management Regulations at 43 CFR subpart 3809, and by the BLM's responsibility to ensure that operations under the General Mining Law of 1872 prevent unnecessary or undue degradation of public lands.

Preliminary Proposed Action and Alternatives

The Proposed Action is to construct, operate, reclaim, and close a new gold and silver mine from which ore would be extracted using conventional surface mining techniques and associated facilities. The Plan of Operations boundary would cover approximately 8,548 acres on approximately 4,624 acres of BLM-administered lands and approximately 3,924 acres of private land.

The access road would include a portion of Lucky Nugget 2 Road, BLM Road 1119, County Road 720 (Bullion Road), and BLM Road 1053.

The proposed life of the Project is approximately 16.5 years and includes construction for approximately 1.5 years, mine operations for approximately 10 years, and reclamation and closure for approximately 5 years. Monitoring would continue, as necessary. Construction is estimated to employ up to 600 people, and mine operations would employ approximately 300 people.

The Proposed Action facilities include:

• Four open pits (Dark Star North, Dark Star Main, Pinion North, Pinion Main), 2 of which would require dewatering and result in pit lakes after mine closure;

• Three Waste Rock Disposal Facilities;

• A limestone quarry;

• An ore crushing and conveying system;

• Lime and cement silos and ore agglomeration facility;

• Ore, clay, and growth media stockpiles;

• An on-site power plant and substation;

• A heap leach facility with solution channels, associated process solution tanks, and ponds;

• A water supply and dewatering system;

• Stormwater diversion ditches and stormwater sediment basins;

• A water treatment plant;

• Processing facilities composed of pumps and pipelines; adsorption, desorption, and recovery plant; refinery; and an assay laboratory;

• Access and haul roads;

• Ancillary facilities composed of the following: ready line; maintenance area; reagent and fuel storage; storage and laydown yards; explosive magazines; meteorological station; warehouse; truck maintenance shop; truck wash; offices; workshop; changing and lunch facilities; administration and security building; and solid and hazardous waste management facilities; and

• Evapotranspiration cells developed during reclamation and closure.

Existing surface disturbance associated with the previously authorized South Railroad Exploration Plan of Operations would be overlapped by the proposed mine features within the mine area. As such, the existing disturbance would be incorporated into the Proposed Action. The South Railroad Exploration Plan of Operations would remain authorized for up to 500 acres of exploration disturbance.

While the proposed Plan of Operations boundary would cover approximately 8,548 acres, the proposed surface disturbance within that boundary for mine facilities and access would result in 1,770 acres of surface disturbance. Of this, approximately 931 acres are on BLM-administered lands and approximately 839 are on private land. Approximately 1,267 acres of the surface disturbance would be temporary/reclaimed and 503 acres of permanent disturbance would remain when the mine is closed.

The BLM welcomes comments on all preliminary alternatives as well as suggestions for additional alternatives.

Summary of Expected Impacts

The analysis in the EIS will focus on potential effects to air quality; cultural resources; water resources; hazardous materials and solid waste; livestock grazing; noise and vibration; recreation and wilderness; social and economic values; soils and reclamation; transportation and access; vegetation resources; visual resources; threatened and endangered species; wildlife resources; paleontology; geology and minerals; lands and realty; and Native American traditional values.

The following bullet points summarize some of the anticipated impacts:

• Cultural Resources: There are 35 sites that are eligible or unevaluated under the National Register of Historic Places and may be affected by the Proposed Action; 18 of them are within the physical area of potential effects and 17 are within the visual, auditory, and atmospheric area of potential effects.

• Water Resources: The Proposed Action involves groundwater pumping (dewatering) to allow mining below the water table at the Dark Star North Pit and Dark Star Main Pit and would result in 2 pit lakes forming. No dewatering requirements are anticipated for the Pinion North Pit and Pinion Main Pit, mining of these pits would occur entirely above the natural water table and as a result pit lakes are not expected to form after closure. Potential impacts to seep, spring, and stream flow may occur within the maximum extent of 10-foot drawdown from the proposed dewatering operations if the source of the water is connected to the regional aquifer feeding these surface water features. Additionally, during years two through five of mine operations, dewatering rates are predicted to exceed consumptive demands and excess water would be treated and released to the unnamed tributary that flows into Dixie Creek. Groundwater pumping for pit dewatering and the release of excess water to the unnamed tributary would end in year five of mine operations and groundwater would only be extracted to support consumptive use from that point forward. A monitoring and mitigation plan will be developed to address impacts. Sedimentation and erosion may also occur due to Project-related disturbance, but this would be addressed through appropriate mine design requirements.

• Livestock Grazing: The Proposed Action would result in an impact to available acres of land for livestock to graze within the El Jiggs, Pine Mountain, Dixie Flats, White Flats FFR, Emigrant Springs, River, Tonka, and Indian Springs allotments. The eight allotments total 136,709 acres of BLM grazing lease acreage, with 30,715 permitted Animal Unit Months (18,543 active Animal Unit Months). Effects to livestock grazing would include a potential reduction in Animal Unit Months by 446 during operations and 87 post-closure due to a loss of forage availability from surface disturbance and reduced access to a portion of an allotment from fencing.

• Transportation and Access: Approximately 17 miles of the proposed access road is comprised of existing roads; however, approximately 0.2 miles of new road would be constructed where the access road enters the Plan of Operations boundary. The primary access route would start by traveling southeast on State Route 227, then south on State Route 228, west on an unnamed road, northwest on Lower South Fork Road, west and north on County Road 715B (Casway Road, Sherman Avenue, Lucky Nugget Road), and southwest on BLM Road 1119, County Road 720 (Bullion Road), and BLM Road 1053. Approximately seven miles of the primary access route near South Fork Reservoir would pass through residential areas near the South Fork State Recreation Area. The Proposed Action includes the maintenance, improvement, and realignment of the access road. Improvement and maintenance of the access road would be conducted by Gold Standard Ventures (US) Inc. and/or its contractors, in coordination with the Elko County Road Department via a required agreement with Elko County. The Proposed Action includes, where necessary, improving and widening the access road to accommodate two travel lanes, and installation of culverts and other drainage management features along the access road. The Proposed Action would add an estimated 86 total vehicle trips per day to the transportation system within the area of analysis during mine operations. Traffic during the construction and reclamation period is expected to be greater than traffic levels during the mine operations period due to increased deliveries, construction traffic, and equipment removal.

• Threatened and Endangered Species: Federally listed species that have been documented or may be present in the Project Area include Lahontan cutthroat trout and whitebark pine. No impacts to whitebark pine are anticipated. Impacts to Lahontan cutthroat trout and its habitat are expected due to increased sediment input into the Dixie Creek, changes to water quantity and quality due to discharge of pumped water during dewatering activities, and loss of riparian areas from the disturbance area and dewatering activities. Compliance with section 7 of the Endangered Species Act (16 United States Code 1536) will be required to address potential impacts to the Lahontan cutthroat trout and its habitat.

• Wildlife Resources: Impacts to greater sage-grouse habitat are expected to include 892 acres (586 temporary, 306 permanent) of priority habitat removal; 18 leks impacted by noise from construction, mine operations, reclamation, and closure; and 1 inactive lek from surface disturbance associated with the access road. Gold Standard Ventures (US) Inc. would participate in the required Nevada Conservation Credit System, implement required design features from the 2015 Approved Resource Management Plan Amendments for the Greater Sage-Grouse, and include applicant-committed environmental protection measures in its Plan of Operations to mitigate habitat impacts from the Proposed Action to ensure an overall net conservation gain for the species, while allowing for mine development.

Anticipated Permits and Authorizations

• Plan of Operations—BLM

• Industrial Artificial Pond Permit—Nevada Department of Wildlife

• CCS Certification of Mitigation—Nevada Department of Conservation and Natural Resources; Division of State Lands; Sagebrush Ecosystem Council

• County Road Use and Maintenance License and Agreement—Elko County Public Works and Natural Resources Departments

• County and Public Road Use and Maintenance Agreement—Eureka County Public Works Department

• All other State and County required permits

Schedule for the Decision-Making Process

Consistent with the NEPA process, the BLM anticipates the final EIS will be released winter 2025-2026 with a record of decision during winter 2025-2026.

Public Scoping Process

This notice of intent initiates the scoping period. The BLM will be holding two in-person public scoping meetings on the following dates at the following locations: September 3, 2025, from 2:00 to 4:00 p.m. PST and again on the same date from 6:00 to 8:00 p.m. PST. Both meetings will be in-person and will occur at the California Trail Center, 1 Interpretive Way, Elko, NV 89801. The date(s) and location(s) of any additional scoping meetings will be announced in advance through local newspaper publications and the BLM National NEPA Register Project page at https://eplanning.blm.gov/eplanning-ui/project/2038636/510.

Responsible Official

Jared M. Bybee, District Manager, Elko District Office

Nature of Decision To Be Made

The BLM's decision relative to the EIS that will be prepared for the South Railroad Mine Project will consider the following: (1) approval of the proposed Plan of Operations to authorize the proposed activities without modifications or additional mitigation measures; (2) approval of the proposed Plan of Operations with additional mitigation measures that the BLM deems necessary to prevent unnecessary or undue degradation of public lands; (3) approval of the Plan of Operations with one of the alternatives analyzed in the EIS; or (4) denial of the proposed Plan of Operations and associated activities.

Additional Information

The BLM will utilize and coordinate the NEPA process to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed project will assist the BLM in identifying and evaluating impacts to such resources.

The BLM will consult with Indian Tribal Nations on a government-to-government basis in accordance with Executive Order 13175, BLM Manual 1780, and other Departmental policies. Tribal concerns, including impacts on Indian trust assets and potential impacts to cultural resources, will be given due consideration. Federal, State, and local agencies, along with Indian Tribal Nations and other stakeholders that may be interested in or affected by the proposed South Railroad Mine Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 43 CFR 46.435)

Jared M. Bybee,
District Manager, Elko District Office.

[FR Doc. 2025-15310 Filed 8-12-25; 8:45 am]

BILLING CODE 4331-21-P